DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2012, there were two applications approved. This notice also includes information on one application, approved in March 2012, inadvertently left off the March 2012 notice. Additionally, two approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Tri-Cities Airport Commission, Blountsville, Tennessee.

Application Number: 12-04-C-00-TRI.

Application Type: Impose and use a PFC.

PFC Level: $4.50.

Total PFC Revenue Approved in This Decision: $489,869.

Earliest Charge Effective Date: June 1, 2014.

Estimated Charge Expiration Date: January 1, 2015.

Class of Air Carriers Not Required to Collect PFC's: Nonscheduled/on-demand air carriers filing FAA Form 1800-31.

Determination: Approved. Based on information submitted in the public agency's application, the FAA has determined that the proposed class accounts for less than 1 percent of the total annual enplanements at Tri-Cities Regional Airport.

Brief Description of Projects Approved for Collection and Use:

Taxiway R extension and road relocation—design.

Runway 5/23 pavement rehabilitation—design.

Property acquisition—parcel 40.

In-line baggage system.

Runway high speed snow removal broom.

Taxiway R extension and road relocation—construction.

PFC administrative costs.

Decision Date: March 27, 2012.

For Further Information Contact: Cynthia Wills, Memphis Airports District Office, (901) 322-8190.

Public Agency: Great Falls International Airport Authority, Great Falls, Montana.

Application Number: 12-04-C-00-GTF.

Application Type: Impose and use a PFC.

PFC Level: $4.50.

Total PFC Revenue Approved in This Decision: $4,040,904.

Earliest Charge Effective Date: November 1, 2016.

Estimated Charge Expiration Date: June 1, 2021.

Class of Air Carriers Not Required to Collect PFC'S: Air taxi/commercial operators filing FM Form 1800-31.

Determination: Approved. Based on information submitted in the public agency's application, the FAA has determined that the proposed class accounts for less than 1 percent of the total annual enplanements at Great Falls International Airport.

Brief Description of Projects Approved for Collection and Use:

Correct runway 3/21 line of sight deficiency.

Install category III instrument landing system.

2005 purchase of airport power sweeper.

Terminal rehabilitation, phase I.

Purchase airport snow removal truck/plow.

Design and construct noise mitigation measures for residences.

Decision Date: April 12, 2012.

For Further Information Contact: Jason Garwood, Helena Airports District Office, (406) 449-5078.

Public Agency: Port of Pasco, Pasco, Washington.

Application Number: 12-08-C-00-PSC.

Application Type: Impose and use a PFC.

PFC Level: $4.50.

Total PFC Revenue Approved in This Decision: $3,865,000.

Earliest Charge Effective Date: May 1, 2015.

Estimated Charge Expiration Date: April 1, 2022.

Class of Air Carriers Not Required to Collect PFC's: None.

Brief Description of Projects Approved for Collection and Use:

Terminal area plan.

Terminal building rehabilitation.

Runway sweeper acquisition.

PFC administration.

Decision Date: April 12, 2012.

For Further Information Contact: Trang Tran, Seattle Airports District Office, (425) 227-1662.

Amendments to PFC Approvals
Amendment No. city, State | Amendment approved date | Original approved net PFC revenue | Amended approved net PFC revenue | Original estimated charge exp. date | Amended estimated charge exp. date
11-11-C-01-RNO Reno, NV | 04/03/12 | $25,491,376 | $33,933,876 | 04/01/17 | 07/01/18
07-02-C-01-CLT | 04/11/12 | 144,557,137 | 143,057,137 | 12/01/18 | 12/01/18

Issued in Washington, DC, on May 3, 2012.
Joe Hebert,
Manager, Financial Analysis and Passenger Facility Charge Branch.

[FR Doc. 2012-11231 Filed 5-9-12; 8:45 am]

BILLING CODE 4910-13-M